NATIONAL CAPITAL PLANNING COMMISSION

Submission Guidelines

AGENCY: National Capital Planning Commission.

ACTION: Notice of availability.

SUMMARY: The National Capital Planning Commission (NCPC or Commission) hereby adopts new Submission Guidelines.

DATES: The Submission Guidelines are adopted as of October 30, 2017.

FOR FURTHER INFORMATION CONTACT: Matthew Flis, Senior Urban Designer at (202) 482-7236 or submission@ncpc.gov.

SUPPLEMENTARY INFORMATION:

I. General Background

Federal and non-Federal agency applicants whose development proposals are subject to statutorily-mandated Commission plan and project review must submit their proposals to the Commission following a process laid out in the Submission Guidelines. The Submission Guidelines describe the content of submissions, the submission stages, and the coordination and review process governing submissions.

The new Submission Guidelines accomplish three primary objectives: (1) Create clear, accessible, and efficient guidelines that are responsive to applicant needs; (2) Align NCPC's review stages and National Environmental Policy Act requirements with those of applicant agencies to save time and resources in the planning process; and (3) Allow staff to exempt from Commission review certain minor projects based on specific criteria where there is no federal interest. The new Submission Guidelines are posted on NCPC's Web site at https://www.ncpc.gov/initiatives/subnepa.html.

II. Summary of and Response to Comments

NCPC published a notice of availability; request for comment; and notice of public meetings for its revised Submission Guidelines in the Federal Register on May 26, 2017. The notice announced, among others, a 45-day public comment period. The public comment period closed on July 10, 2017. A summary of the comments received and NCPC's response thereto can be found in Appendix A of the Executive Director's Recommendation (EDR) for NCPC file No. 7744 dated September 7, 2017. The subject EDR is located on NCPC's Web site at https://www.ncpc.gov/docs/actions/2017September/NCPC_Submission_Guidelines_Recommendation_7744_Sept2017.pdf.

Authority: 40 U.S.C. 8721(e)(2) and 8722(a).

Dated: September 21, 2017.
Anne R. Schuyler,
General Counsel.

[FR Doc. 2017-20612 Filed 9-28-17; 8:45 am]

BILLING CODE 7502-02-P